DEPARTMENT OF COMMERCE

International Trade Administration

[A-588-837]

Large Newspaper Printing Presses and Components Thereof, Whether Assembled or Unassembled, From Japan: Reconsideration of Sunset Review

AGENCY: Import Administration, International Trade Administration, Department of Commerce.

SUMMARY: The Department of Commerce (“the Department”) is initiating a review to reconsider the five-year (“sunset”) review that resulted in revocation of the antidumping duty order on large newspaper printing presses and components thereof, whether assembled or unassembled, from Japan.

EFFECTIVE DATE: April 13, 2006.

FOR FURTHER INFORMATION CONTACT: David J. Goldberger or Kate Johnson, AD/CVD Operations, Office 2, Import Administration, International Trade Administration, U.S. Department of Commerce, 14th Street and Constitution Avenue, NW., Washington, DC 20230; telephone (202) 482-4136, or (202) 482-4929 respectively.

SUPPLEMENTARY INFORMATION:

Background

On February 25, 2002, the Department revoked the antidumping duty order on large newspaper printing presses (LNPP) from Japan under a five-year sunset review pursuant to section 751(c)(3)(A) of the Tariff Act of 1930, as amended (the Act), because the only domestic interested party in the sunset review, Goss International Corporation (Goss), withdrew its participation and thus its interest in the review. See Large Newspaper Printing Presses and Components Thereof, Whether Assembled or Unassembled, from Japan (A-588-837) and Germany (A-428-821): Notice of Final Results of Five-Year Sunset Reviews and Revocation of Antidumping Duty Orders, 67 FR 8522 (February 25, 2002).

On May 5, 2005, the Department self-initiated a changed circumstances review to consider information contained in a federal court decision, Goss International Corp. v. Tokyo Kikai Seisakusho, Ltd., 321 F.Supp.2d 1039 (N.D. Iowa 2004). See Large Newspaper Printing Presses and Components Thereof, Whether Assembled or Unassembled, from Japan: Initiation of Changed Circumstances Review, 70 FR 24524 (May 10, 2005). On March 8, 2006, the Department published the final results of that changed circumstances review. See Large Newspaper Printing Presses and Components Thereof, Whether Assembled or Unassembled, from Japan: Final Results of Changed Circumstances Review (71 FR 11590) (CCR Final Results). In the final results, the Department stated that it would reopen for reconsideration the sunset review that resulted in revocation of this order. The Department further stated that it would conduct this reconsideration of the sunset review following the procedures outlined in section 751(c) of the Act and 19 CFR 351.218.

Initiation of Reconsideration of Sunset Review

As detailed in CCR Final Results, particularly at Comments 2 and 3 of the accompanying Issues and Decision Memorandum, the misconduct of the respondent Tokyo Kikai Seisakusho, Ltd. (TKS) during the 1997-1998 administrative review of the LNPP antidumping duty order, which ultimately led to its company-specific revocation from the underlying order, substantially tainted the integrity of the proceeding, and may have significantly undermined the integrity of the sunset review results, including the parties' decisions whether or not to participate in the sunset review. As such, the results of that sunset review are unreliable. Accordingly, the Department will reconsider the sunset review it conducted when the order was in place, but when the Department was unaware of misstatements made by TKS with the purpose of avoiding a determination of dumping. This action is warranted because the Department has the responsibility and authority to defend the integrity of its past determinations and to ensure the integrity of its future proceedings against deliberate, misleading behavior. Therefore, we are conducting anew the five-year sunset review of LNPP from Japan. As in a situation when a suspension agreement is terminated and an investigation is resumed, the Department will examine and collect information from the prior sunset review period (i.e., September 4, 1996, through September 4, 2001). See, e.g., Final Determination of Sales at Less Than Fair Value: Uranium from the Republic of Kazakhstan, 64 FR 31179 (June 10, 1999). See also Fresh Tomatoes from Mexico: Notice of Intent to Terminate Suspension Agreement, Intent to Terminate the Five-Year Sunset Review, Intent to Resume Antidumping Investigation, and Request for Comments on the Use of Updated Information, 67 FR 43278 (June 27, 2002).

In reconsidering this sunset review, as with any sunset review, the Department will report to the International Trade Commission (“ITC”) whether or not there is a likelihood of continuation of dumping; however, the Department by itself cannot order the continuation of an antidumping order without an affirmative injury finding by the ITC. See section 751(c) of the Act; Uruguay Round Agreements Act, Statement of Administrative Action, H.R. Doc No. 103-316, vol. 1, at 879 (1994) (the Department determines whether the revocation of the order would lead to recurring or continuing dumping, but the ITC determines the likelihood of recurring or continuing injury).

The Department's procedures for the conduct of sunset reviews are set forth in its Procedures for Conducting Five-Year (“Sunset”) Reviews of Antidumping and Countervailing Duty Orders, 63 FR 13516 (March 20, 1998) and 70 FR 62061 (October 28, 2005). Guidance on methodological or analytical issues relevant to the Department's conduct of sunset reviews is set forth in the Department's Policy Bulletin 98.3—Policies Regarding the Conduct of Five-Year (“Sunset”) Reviews of Antidumping and Countervailing Duty Orders; Policy Bulletin, 63 FR 18871 (April 16, 1998) (“Sunset Policy Bulletin”). These procedures and guidance will apply in this reconsideration.

Filing Information

All submissions in this reconsideration of the sunset review must be filed in accordance with the Department's regulations regarding format, translation, service, and certification of documents. These rules can be found at 19 CFR 351.303.

Pursuant to 19 CFR 351.103(c), the Department will maintain and make available a service list for this proceeding. To facilitate the timely preparation of the service list, it is requested that those seeking recognition as interested parties to a proceeding contact the Department in writing within 10 days of the publication of this notice.

As the deadlines in this review may be short, we urge interested parties to apply for access to proprietary information under administrative protective order (“APO”) immediately following publication in the Federal Register of this notice. The Department's regulations on submission of proprietary information and eligibility to receive access to business proprietary information under APO can be found at 19 CFR 351.304-306.

Information Required From Interested Parties

Domestic interested parties (defined in section 771(9)(C), (D), (E), (F), or (G) of the Act and 19 CFR 351.102(b)) wishing to participate in this reconsideration of the sunset review must respond not later than 15 days after the date of publication in the Federal Register of this notice by filing a notice of intent to participate. The required contents of the notice of intent to participate are set forth at 19 CFR 351.218(d)(1)(ii). In accordance with the Department's regulations, if we do not receive a notice of intent to participate from at least one domestic interested party by the 15-day deadline, the Department will terminate this reconsideration of the sunset review. See 19 CFR 351.218(d)(1)(iii).

If we receive a notice of intent to participate from a domestic interested party, the Department's regulations provide that all parties wishing to participate in a sunset review must file complete substantive responses not later than 30 days after the date of publication in the Federal Register of this notice. The required contents of a substantive response are set forth at 19 CFR 351.218(d)(3). Note that certain information requirements differ for respondent and domestic parties. Please consult the Department's regulations for information regarding the Department's conduct of sunset reviews.¹ Please consult the Department's regulations at 19 CFR Part 351 for definitions of terms and for other general information concerning antidumping and countervailing duty proceedings at the Department.

¹ In comments made on the interim final sunset regulations, a number of parties stated that the proposed five-day period for rebuttals to substantive responses to a notice of initiation was insufficient. This requirement was retained in the final sunset regulations at 19 CFR 351.218(d)(4). As provided in 19 CFR 351.302(b), however, the Department will consider individual requests for extension of that five-day deadline based upon a showing of good cause.

Dated: April 6, 2006.
David M. Spooner,
Assistant Secretary for Import Administration.

[FR Doc. E6-5500 Filed 4-12-06; 8:45 am]

Billing Code: 3510-DS-P